DEPARTMENT OF HOMELAND SECURITY

Bureau of Customs and Border Protection

19 CFR Part 122

[USCBP-2007-0064]

RIN 1651-AA41

Advance Information on Private Aircraft Arriving and Departing the United States

AGENCY: Customs and Border Protection, Department of Homeland Security.

ACTION: Notice of proposed rulemaking; extension of comment period.

SUMMARY: This document provides an additional 15 days for interested persons to submit comments on the proposed rule to amend the Customs and Border Protection (CBP) regulations pertaining to pilots of any private aircraft arriving in the United States from a foreign port or location or departing the United States for a foreign port or location. The proposed rule was published in the Federal Register on September 18, 2007, and the comment period was scheduled to expire on November 19, 2007.

DATES: Comments on the proposed rule published at 72 FR 53394, September 18, 2007, must be received on or before December 4, 2007.

ADDRESSES: You may submit comments, identified by docket number, by one of the following methods:

• Federal eRulemaking Portal: http://www.regulations.gov. Follow the instructions for submitting comments via docket number USCBP-2007-0064.

• Mail: Border Security Regulations Branch, Office of International Trade, Customs and Border Protection, 1300 Pennsylvania Ave., NW., (Mint Annex), Washington, DC 20229.

Instructions: All submissions received must include the agency name and document number for this rulemaking. All comments received will be posted without change to www.regulations.gov, including any personal information provided.

Docket: For access to the docket to read background documents or comments received, go to http://www.regulations.gov. Submitted comments may also be inspected during regular business days between the hours of 9 a.m. and 4:30 p.m. at The Office of International Trade, Customs and Border Protection, 799 9th Street, NW., 5th Floor, Washington, DC. Arrangements to inspect submitted comments should be made in advance by calling Mr. Joseph Clark at (202) 572-8768.

FOR FURTHER INFORMATION CONTACT: For Operational Matters—Michael Kaneris, Office of Field Operations, Customs and Border Protection, 202-344-1584. For Legal Matters—Glen Vereb, Branch Chief, Office of International Trade, Regulations & Rulings, Customs and Border Protection, 202-572-8700.

SUPPLEMENTARY INFORMATION:

Background

CBP published a notice of proposed rulemaking in the Federal Register (72 FR 53394) on September 18, 2007, proposing to amend the CBP regulations pertaining to private aircraft arriving in the United States from a foreign port or location or departing the United States for a foreign port or location. The proposed rule would require any pilot of a private aircraft to submit advance electronic information regarding each individual traveling onboard the aircraft no later than 60 minutes before the arriving private aircraft departs from a foreign location for the United States, and no later than 60 minutes before a private aircraft departs a United States airport or location for a foreign location. The proposed rule would also amend CBP regulations to add data elements to the existing notice of arrival requirements, add a notice of departure requirement, and clarify landing rights procedures.

The notice of proposed rulemaking invited the public to comment on the proposal. Comments on the proposed rule were requested on or before November 19, 2007.

Extension of Comment Period

In response to the proposed rule published in the Federal Register, CBP has received correspondence from various parties requesting an extension of the comment period. A decision has been made to grant an extension of 15 days. Comments are now due on or before December 4, 2007.

Dated: November 9, 2007.
Sandra L. Bell,
Executive Director, Regulations & Rulings, Office of International Trade.

[FR Doc. E7-22309 Filed 11-13-07; 8:45 am]

BILLING CODE 9111-14-P